DEPARTMENT OF THE TREASURY

Community Development Financial Institutions Fund

Notice of Funds Availability (NOFA) Inviting Applications for the FY 2006 Funding Round of the Bank Enterprise Award (BEA) Program

ACTION: Change to NOFA inviting applications for the FY 2006 funding round of the BEA Program: Waiver of limitations on eligible Qualified Activities provided to certain CDFI Partners; Change of Application Deadlines; Increase of Award Amount; Modification of Application and Submission Information.

SUMMARY: On September 9, 2004, the Community Development Financial Institutions Fund (the “Fund”) announced in a NOFA for the BEA Program (69 FR 54718) that BEA Program applicants that are also Community Development Financial Institutions (“CDFIs”) cannot receive credit under the BEA Program for financial assistance or Qualified Activities provided to CDFI Partners that are also FDIC-insured depository institutions or depository institution holding companies. Due to the recent occurrence of certain natural disasters, the Fund will waive this provision with regard to the FY 2006 funding round of the BEA Program for applicants providing financial assistance or Qualified Activities to CDFI Partners that are also FDIC-insured depository institutions or depository institution holding companies which have been directly affected by said disasters.

For the FY 2006 funding round, CDFIs may receive BEA Program credit for financial assistance or Qualified Activities provided to CDFI Partners that are FDIC-insured depository institutions or depository institution holding companies whose principal place of business is located in a county for which the Federal Emergency Management Agency (FEMA) has issued a “major disaster declaration” due to Hurricane Katrina on or after August 28, 2005 or due to Hurricane Rita on or after September 24, 2005 and made a determination that such county is eligible for both “individual and public assistance.” A list of the eligible counties may be found on the FEMA Web site (http://www.fema.gov).

Change of Application Deadlines: The NOFA published on September 9, 2004 for the BEA Program (69 FR 54718) also announced that the deadline for applications for the FY 2006 funding round is February 14, 2006.

This notice is to announce that the deadline for the submission of applications via Grants.gov for the FY 2006 funding round of the BEA Program has been changed to 5 p.m. EST on March 1, 2006. Paper attachments to the application must be received no later than 5 p.m. EST on March 6, 2006.

Increase of Award Amount: The NOFA published on September 9, 2004 for the BEA Program (69 FY 54718) also announced that the Fund expects that it may award approximately $6 million in appropriated funds for FY 2006 BEA Program awards.

This notice is to announce that the Fund now expects that it may award approximately $12 million for FY 2006 BEA Program awards. The Fund reserves the right to make awards in an amount less than or in excess of this amount subject to funding availability.

Modification of Application and Submission Information: The NOFA published on September 9, 2004 for the BEA Program (69 FY 54718) provided information regarding submission of applications in response to the NOFA.

This notice is to announce that for the FY 2006 funding round, in compliance with Public Law 106-107 and Section 5(a) of the Federal Financial Assistance Management Improvement Act, the Fund is required to accept applications submitted through the Grants.gov electronic system. The Fund will post to its Web site at http://www.cdfifund.gov instructions for accessing and submitting an application through Grants.gov. The application instructions will be posted as soon as they are available and once the application materials are accessible through Grants.gov. The anticipated release date for the application instructions is January 6, 2006. Applicants are encouraged to start the registration process now at www.Grants.gov as the process may take several weeks to fully complete. See the following link for information on getting started on Grants.gov: http://grants.gov/assets/GrantsgovCoBrandBrochure8X11.pdf.

All other information and requirements set forth in the September 9, 2004 NOFA for the BEA Program shall remain effective, as published.

FOR FURTHER INFORMATION CONTACT: The Fund will respond to questions and provide support concerning the NOFA and the funding application between the hours of 9 a.m. and 5 p.m. EST, starting the date of the publication of the NOFA through close of business February 27, 2006 for the FY 2006 funding round (2 business days before the application deadline).

The Fund will not respond to questions or provide support concerning the application after 5:00 p.m. EST on February 27, 2006 for the FY 2006 funding round, until after the application deadline of March 1, 2006.

Other information regarding the Fund and its programs may be downloaded and printed from the Fund's Web site at http://www.cdfifund.gov. The Fund will post on its Web site responses to questions of general applicability regarding the BEA Program.

A. Information technology support: Technical support can be obtained by calling (202) 622-2455 or by e-mail at ithelpdesk@cdfi.treas.gov. People who have visual or mobility impairments that prevent them from creating Hot Zone or Distressed Community maps using the Fund's Web site should call (202) 622-2455 for assistance. These are not toll free numbers.

B. Programmatic support: If you have any questions about the programmatic requirements (such as the eligibility of specific transactions or CDFI Partners), contact a member of the BEA Program staff, who can be reached by e-mail at cdfihelp@cdfi.treas.gov, by telephone at (202) 622-6355, by facsimile at (202) 622-7754, or by mail at CDFI Fund, 601 13th Street, NW., Suite 200 South, Washington, DC 20005. These are not toll-free numbers.

C. Administrative support: If you have any questions regarding the administrative requirements of the NOFA, contact the Fund's Grants Manager by e-mail at grantsmanagement@cdfi.treas.gov, by telephone at (202) 622-8226, by facsimile at (202) 622-9625, or by mail at CDFI Fund, 601 13th Street, NW., Suite 200 South, Washington, DC 20005. These are not toll free numbers.

D. Legal counsel support: If you have any questions or matters that you believe require response by the Fund's Office of Legal Counsel, please refer to the document titled “How to Request a Legal Review”, found on the Fund's Web site at http://www.cdfifund.gov.

Authority: 12 U.S.C. 1834a, 4703, 4703 note, 4713; 12 CFR part 1806.

Dated: December 2, 2005.
Arthur A. Garcia,
Director, Community Development Financial Institutions Fund.

[FR Doc. 05-23749 Filed 12-12-05; 8:45 am]

BILLING CODE 4810-70-P